DEPARTMENT OF COMMERCE

National Oceanic and Atmospheric Administration

RIN 0648-XV93

Notice of Intent To Prepare an Environmental Assessment and Conduct San Joaquin River Chinook Salmon Scoping Meeting

AGENCY: National Marine Fisheries Service (NMFS), National Oceanic and Atmospheric Administration (NOAA), Commerce.

ACTION: Notice; extension of comment period; correction.

SUMMARY: NMFS published a document in the Federal Register of April 21, 2010, concerning an announcement of intent to prepare an Environmental Assessment (EA) to analyze the potential impacts of the proposed reintroduction of spring-run Chinook salmon to the mainstem of the San Joaquin River. The document contained incorrect contact information.

FOR FURTHER INFORMATION CONTACT: Elif Fehm-Sullivan, 916-930-3723.

SUPPLEMENTARY INFORMATION:

Need for Correction

In the Federal Register of April 21, 2010 (FR Doc. 2010-9188), on page 20815 in the second column, correct the e-mail address that was listed as SJRSpringSalmon@noaa.gov to read SJRSpring.Salmon@noaa.gov.

Extension of Comment Period

Due to this error, the comment period is extended for August 9, 2010.

Dated: July 1, 2010.
Angela Somma,
Chief, Endangered Species Division, National Marine Fisheries Service.

[FR Doc. 2010-16660 Filed 7-7-10; 8:45 am]

BILLING CODE 3510-22-P